DEPARTMENT OF DEFENSE

Department of the Army

Availability of U.S. Patent Application for Non-Exclusive, Exclusive, or Partially Exclusive Licensing

AGENCY: U.S. Army Soldier and Biological Chemical Command, DoD.

ACTION: Notice.

SUMMARY: In accordance with 35 U.S.C. 209 and 37 CFR part 404 announcement is made of the availability for licensing of the following U.S. Patent application for non-exclusive, exclusive, or partially exclusive licensing. The patent application listed below has been assigned to the United States Government as represented by the Secretary of the Army, Washington, DC.

FOR FURTHER INFORMATION CONTACT: Mr. John Biffoni, Intellectual Property Attorney, U.S. Army SBCCOM, ATTN: AMSSB-CC (Bldg E4435), APG, MD 21010-5424, Phone: (410) 436-1158; FAX: 410-436-2534 or e-mail: John.Biffoni@sbccom.apgea.army.mil.

SUPPLEMENTARY INFORMATION: Title: “Immunoassay and Reagents and Kits for Performing the Same.”

Description: The present invention relates to novel immunoassay methods and devices or kits that utilize a sandwich assay for detection of an antigen or hapten in a sample, particularly a biological sample. In a preferred embodiment, the present invention relates to a simple one-step electrochemiluminescent (ECL) assay approach that requires approximately 15 minutes for identification and/or quantification of an antigen or analyte. The present invention also relates to reagents and kits useful for carrying out such immunoassays.

Patent Application Number: 09/433,787.

Filing Date: November 3, 1999.

Luz D. Ortiz,
Army Federal Register Liaison Officer.

[FR Doc. 01-27629 Filed 11-1-01; 8:45 am]

BILLING CODE 3710-08-M